DEPARTMENT OF COMMERCE

International Trade Administration

Overseas Trade Missions

AGENCY: International Trade Administration, Department of Commerce.

ACTION: Notice.

SUMMARY: The Department of Commerce invites U.S. companies to participate in the below listed overseas trade missions. For a more complete description of each trade mission, obtain a copy of the mission statement from the Project Officer indicated for each mission below. Recruitment and selection of private sector participants for these missions will be conducted according to the Statement of Policy Governing Department of Commerce Overseas Trade Missions dated March 3, 1997.

(1) E-Learning, Higher Education and Vocational Training Trade Mission to Southeast Asia, Bangkok, Thailand and Kuala Lumpur, Malaysia, October 15-19, 2001, Recruitment closes on September 20, 2001. For further information contact: Ms. Danielle Moser, U.S. Department of Commerce. Telephone 410-962-4539; or e-Mail: danielle.moser@mail.doc.gov.

(2) Aerospace Executive Service Mission at Asian Aerospace 2002—Singapore, February 25-26, 2002, Recruitment closes on December 31, 2001. For further information contact: Mr. Eric Nielsen, U.S. Department of Commerce, Telephone 520-670-5540; or e-Mail: enielsen@mail.doc.gov.

For further information contact Mr. Thomas Nisbet, U.S. Department of Commerce. Telephone 202-482-5657, or e-Mail Tom_Nisbet@ita.doc.gov.

Dated: August 1, 2001.
Thomas H. Nisbet,
Director, Promotion Planning and Support Division, Office of Export Promotion Coordination.

[FR Doc. 01-19747 Filed 8-6-01; 8:45 am]

BILLING CODE 3510-DR-P